DEPARTMENT OF ENERGY

Federal Energy Regulatory Commission

[Project No. 2459-285]

Lake Lynn Generation, LLC; Notice of Application for Temporary Variance Accepted for Filing and Soliciting Comments, Motions To Intervene, and Protests

Take notice that the following hydroelectric application has been filed with the Commission and is available for public inspection.

a. Application Type: Temporary Variance from Reservoir Elevation.

b. Project No.: 2459-285.

c. Date Filed: July 16, 2024.

d. Applicant: Lake Lynn Generation, LLC.

e. Name of Project: Lake Lynn Hydroelectric Project.

f. Location: The Lake Lynn Hydroelectric Project is located on the Cheat River in Monongalia County, West Virginia, and Fayette County, Pennsylvania.

g. Filed Pursuant to: Federal Power Act, 16 U.S.C. 791(a)-825(r).

h. Applicant Contact: Joyce Foster, Director of Licensing and Compliance, 7315 Wisconsin Avenue, Ste. 1100W, Bethesda, MD 20814, (804) 338-5110.

i. FERC Contact: Zeena Aljibury, (202) 502-6065, zeena.aljibury@ferc.gov.

j. Cooperating Agencies: With this notice, the Commission is inviting Federal, State, local, and Tribal agencies with jurisdiction and/or special expertise with respect to environmental issues affected by the proposal, that wish to cooperate in the preparation of any environmental document, if applicable, to follow the instructions for filing such requests described in item k below. Cooperating agencies should note the Commission's policy that agencies that cooperate in the preparation of any environmental document cannot also intervene. See 94 FERC ¶ 61,076 (2001).

k. Deadline for filing comments, motions to intervene, and protests: 30 days from the issuance date of this notice by the Commission.

The Commission strongly encourages electronic filing. Please file comments, motions to intervene, and protests using the Commission's eFiling system at http://www.ferc.gov/docs-filing/efiling.asp. Commenters can submit brief comments up to 6,000 characters, without prior registration, using the eComment system at http://www.ferc.gov/doc-sfiling/ecomment.asp. You must include your name and contact information at the end of your comments. For assistance, please contact FERC Online Support at FERCOnlineSupport@ferc.gov, (866) 208-3676 (toll free), or (202) 502-8659 (TTY). In lieu of electronic filing, you may submit a paper copy. Submissions sent via the U.S. Postal Service must be addressed to: Debbie-Anne A. Reese, Acting Secretary, Federal Energy Regulatory Commission, 888 First Street NE, Room 1A, Washington, DC 20426. Submissions sent via any other carrier must be addressed to: Debbie-Anne A. Reese, Acting Secretary, Federal Energy Regulatory Commission, 12225 Wilkins Avenue, Rockville, MD 20852. The first page of any filing should include the docket number P-2459-285. Comments emailed to Commission staff are not considered part of the Commission record.

The Commission's Rules of Practice and Procedure require all intervenors filing documents with the Commission to serve a copy of that document on each person whose name appears on the official service list for the project. Further, if an intervenor files comments or documents with the Commission relating to the merits of an issue that may affect the responsibilities of a particular resource agency, they must also serve a copy of the document on that resource agency.

l. Description of Request: The applicant requests Commission approval for a temporary variance from the reservoir elevation requirements at Lake Lynn. Due to lack of precipitation and low reservoir inflows, the applicant requests to reduce the seasonal minimum allowable reservoir elevation from 868 feet to 865 feet to increase spillway discharge in order to mitigate low tailrace dissolved oxygen levels (DO). When inflow to the reservoir is not equal to the discharge needed to maintain DO concentration in the project tailwater at the minimum standard (5.0 milligrams per liter), the applicant would increase project discharge in 25 cubic feet per second increments and subsequently lower the reservoir elevation below 868 feet but no less than 865 feet. If necessary to minimize the impact of lower reservoir elevations, the applicant proposes to open the winter boat launch at Cheat Lake Park, which allows boat access at lower reservoir elevations. Additionally, the applicant proposes to contact local marinas, post a notice on its public information website, and provide information to Cheat Lake Environment and Recreation Association and Friends of the Cheat to inform recreation users and shoreline property owners of any expected lower reservoir elevations. The applicant requests the temporary variance to remain into effect until November 1, 2024.

m. Locations of the Application: This filing may be viewed on the Commission's website at http://www.ferc.gov using the “eLibrary” link. Enter the docket number excluding the last three digits in the docket number field to access the document. You may also register online at http://www.ferc.gov/docs-filing/esubscription.asp to be notified via email of new filings and issuances related to this or other pending projects. For assistance, call 1-866-208-3676 or email FERCOnlineSupport@ferc.gov, for TTY, call (202) 502-8659. Agencies may obtain copies of the application directly from the applicant.

n. Individuals desiring to be included on the Commission's mailing list should so indicate by writing to the Secretary of the Commission.

o. Comments, Motions to Intervene, or Protests: Anyone may submit comments, a protest, or a motion to intervene in accordance with the requirements of Rules of Practice and Procedure, 18 CFR 385.210, .211, .214, respectively. In determining the appropriate action to take, the Commission will consider all protests or other comments filed, but only those who file a motion to intervene in accordance with the Commission's Rules may become a party to the proceeding. Any comments, protests, or motions to intervene must be received on or before the specified comment date for the particular application.

p. Filing and Service of Responsive Documents: Any filing must (1) bear in all capital letters the title “COMMENTS”, “PROTEST”, or “MOTION TO INTERVENE” as applicable; (2) set forth in the heading the name of the applicant and the project number of the application to which the filing responds; (3) furnish the name, address, and telephone number of the person commenting, protesting or intervening; and (4) otherwise comply with the requirements of 18 CFR 385.2001 through 385.2005. All comments, motions to intervene, or protests must set forth their evidentiary basis. Any filing made by an intervenor must be accompanied by proof of service on all persons listed in the service list prepared by the Commission in this proceeding, in accordance with 18 CFR 385.2010.

q. The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: July 18, 2024.
Debbie-Anne A. Reese,
Acting Secretary.

[FR Doc. 2024-16294 Filed 7-24-24; 8:45 am]

BILLING CODE 6717-01-P